DEPARTMENT OF TRANSPORTATION

Federal Aviation Administration

14 CFR Part 39

[Docket No. FAA-2005-20631; Directorate Identifier 2005-NM-025-AD; Amendment 39-14012; AD 2005-06-04]

RIN 2120-AA64

Airworthiness Directives; Bombardier Model CL-600-2B19 (Regional Jet Series 100 & 440) Airplanes

AGENCY: Federal Aviation Administration (FAA), Department of Transportation (DOT).

ACTION: Final rule; request for comments.

SUMMARY: The FAA is superseding an existing airworthiness directive (AD) that applies to certain Bombardier Model CL-600-2B19 (Regional Jet Series 100 & 440) airplanes. The existing AD currently requires repetitive inspections of the left and right engine throttle control gearboxes for wear, and corrective action if necessary. The existing AD was prompted by numerous failures of the engine throttle control gearbox, some of which resulted in an in-flight engine shutdown. This AD adds airplanes to the applicability of the existing AD. We are issuing this AD to prevent excessive wear of the gearboxes and subsequent movement or jamming of the engine throttle; movement of the throttle towards the idle position brings it close to the fuel shut-off position, which could result in an in-flight engine shutdown.

DATES: Effective April 1, 2005.

On July 9, 2004 (69 FR 35239, June 24, 2004), the Director of the Federal Register approved the incorporation by reference of Bombardier Service Bulletin 601R-76-019, Revision ‘A,’ dated February 19, 2004.

On March 25, 2004 (69 FR 11293, March 10, 2004), the Director of the Federal Register approved the incorporation by reference of Bombardier Service Bulletin 601R-76-019, dated August 21, 2003.

We must receive any comments on this AD by May 16, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this AD, contact Bombardier, Inc., Canadair, Aerospace Group, P.O. Box 6087, Station Centre-ville, Montreal, Quebec H3C 3G9, Canada.

You can examine the contents of this AD docket on the Internet at http://dms.dot.gov, or in person at the Docket Management Facility, U.S. Department of Transportation, 400 Seventh Street SW., room PL-401, on the plaza level of the Nassif Building, Washington, DC. This docket number is FAA-2005-20631; the directorate identifier for this docket is 2005-NM-025-AD.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

FOR FURTHER INFORMATION CONTACT: Richard Beckwith, Aerospace Engineer, Airframe and Propulsion Branch, ANE-171, FAA, New York Aircraft Certification Office, 1600 Stewart Avenue, Westbury, New York 11581; telephone (516) 228-7302; fax (516) 794-5531.

SUPPLEMENTARY INFORMATION: On June 10, 2004, the FAA issued AD 2004-05-12 R1, amendment 39-13683 (69 FR 35239, June 24, 2004), for certain Bombardier Model CL-600-2B19 (Regional Jet Series 100 & 440) airplanes. That AD requires repetitive inspections of the left and right engine throttle control gearboxes for wear, and corrective action if necessary. That AD was prompted by numerous failures of the engine throttle control gearbox, some of which resulted in an in-flight engine shutdown. We issued that AD to prevent excessive wear of the gearboxes and subsequent movement or jamming of the engine throttle; movement of the throttle towards the idle position brings it close to the fuel shut-off position, which could result in an in-flight engine shutdown.

Actions Since AD Was Issued

AD 2004-05-12 R1 was originally issued with a limited applicability because Transport Canada Civil Aviation (TCCA), which is Canada's aviation authority, did not expect that Bombardier would produce any airplanes beyond serial number 7999. Recently, Bombardier has produced airplanes with serial numbers 8000 and subsequent.

Relevant Service Information

Bombardier has issued Service Bulletin 601R-76-019, dated August 21, 2003; and Revision ‘A’, dated February 19, 2004; which provide instructions for detailed inspection for wear of the left and right engine throttle control gearboxes, and corrective actions if necessary. The corrective actions include replacing the gearbox with a new or serviceable gearbox. We have determined that accomplishment of the actions specified in the service information will adequately address the unsafe condition.

TCCA mandated the service information and issued Canadian airworthiness directive CF-2004-01, dated January 21, 2004, to ensure the continued airworthiness of these airplanes in Canada.

FAA's Determination and Requirements of This AD

These airplane models are manufactured in Canada and are type certificated for operation in the United States under the provisions of § 21.29 of the Federal Aviation Regulations (14 CFR 21.29) and the applicable bilateral airworthiness agreement. Pursuant to this bilateral airworthiness agreement, TCCA has kept us informed of the situation described above. We have examined TCCA's findings, evaluated all pertinent information, and determined that AD action is necessary for products of this type design that are certificated for operation in the United States.

Therefore, we are issuing this AD to supersede AD 2004-05-12 R1. This new AD continues to require repetitive inspections of the left and right engine throttle control gearboxes for wear, and corrective action if necessary. This AD also applies to additional serial numbered airplanes beyond the last serial number listed in the applicability of the existing AD. This AD requires you to use the Bombardier service information described previously to perform these actions, except as discussed under “Difference Between the AD and Service Information.” This action also requires that operators report the inspection results to Bombardier.

Differences Between the AD and Service Information

Although the Bombardier service information recommends returning discrepant gearboxes to the parts manufacturer, this AD does not contain that requirement.

The service information also does not define the type of inspection for wear of the engine throttle control gearboxes. We have clarified the inspection requirement contained in the AD as a detailed inspection. A note has been added to the AD to define that inspection.

Differences Between the AD and Canadian Airworthiness Directive CF-2004-01

TCCA did not anticipate that Bombardier would produce additional Model CL-600-2B19 (Regional Jet Series 100 & 440) airplanes beyond serial numbers 7003 through 7067 inclusive, and 7069 through 7999 inclusive. Therefore, Canadian airworthiness directive CF-2004-01, dated January 21, 2004, limits the applicability to those serial numbers. Because Bombardier has recently produced airplanes with serial numbers 8000 and subsequent, this AD applies to Model CL-600-2B19 (Regional Jet Series 100 & 440) airplanes, serial numbers 7003 through 7067 inclusive, and 7069 and subsequent. We have coordinated with TCCA that we are superseding AD 2004-05-12 R1 to include airplanes having serial numbers 8000 and subsequent.

Change to Existing AD

This AD retains all requirements of AD 2004-05-12 R1. Since AD 2004-05-12 R1 was issued, the AD format has been revised, and certain paragraphs have been rearranged. As a result, the corresponding paragraph identifiers have changed in this AD, as listed in the following table:

Revised Paragraph Identifiers
Requirement in AD 2004-05-12 R1 | Corresponding requirement in this AD
Paragraph (a) | Paragraph (f).
Paragraph (b) | Paragraph (g).
Paragraph (c) | Paragraph (h).

Interim Action

We consider this AD to be interim action. The reports that you are required to submit will enable the manufacturer to obtain better insight into the nature, cause, and extent of the wear of the engine throttle control gearbox, and eventually to develop final action to address the unsafe condition. Once final action has been identified, we may consider further rulemaking.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed under ADDRESSES. Include “Docket No. FAA-2005-20631; Directorate Identifier 2005-NM-025-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing amendment 39-13683 (69 FR 35239, June 24, 2004), and adding the following new airworthiness directive (AD):

2005-06-04 Bombardier, Inc (Formerly Canadair): Amendment 39-14012. Docket No. FAA-2005-20631; Directorate Identifier 2005-NM-025-AD.

Effective Date

(a) This AD becomes effective April 1, 2005.

Affected ADs

(b) This AD supersedes AD 2004-05-12 R1, amendment 39-13683 (69 FR 35239, June 24, 2004).

Applicability

(c) This AD applies to Bombardier Model CL-600-2B19 (Regional Jet Series 100 & 440) airplanes, serial numbers (S/Ns) 7003 through 7067 inclusive, and 7069 and subsequent, certificated in any category.

Unsafe Condition

(d) This AD was prompted by numerous failures of the engine throttle control gearbox, some of which resulted in an in-flight engine shutdown. We are issuing this AD to prevent excessive wear of the gearboxes and subsequent movement or jamming of the engine throttle; movement of the throttle towards the idle position brings it close to the fuel shut-off position, which could result in an in-flight engine shutdown.

Compliance

(e) You are responsible for having the actions required by this AD performed within the compliance times specified, unless the actions have already been done.

Repetitive Inspections

(f) At the applicable time specified in paragraph (f)(1) or (f)(2) of this AD, do a detailed inspection for wear of the left and right engine throttle control gearboxes having part number (P/N) 2100140-005 or 2100140-007 by doing all the actions per part A, paragraphs A., B., and C.(1) through C.(4), of the Accomplishment Instructions of Bombardier Service Bulletin 601R-76-019, dated August 21, 2003; or Revision “A,” dated February 19, 2004. If the wear value is the same as that specified in part A, paragraph B.(8), of the Accomplishment Instructions of the service bulletin, repeat the inspection thereafter at intervals not to exceed 1,000 flight hours.

(1) For airplanes having SNs 7003 through 7067 inclusive and 7069 through 7999 inclusive: Within 1,000 flight hours or 90 days after March 25, 2004 (the effective date of AD 2004-05-12), whichever is later.

(2) For airplanes having S/Ns 8000 and subsequent: Within 1,000 flight hours or 90 days after the effective date of this AD, whichever is later.

Note 1: For the purposes of this AD, a detailed inspection is: “An intensive visual examination of a specific structural area, system, installation, or assembly to detect damage, failure, or irregularity. Available lighting is normally supplemented with a direct source of good lighting at an intensity deemed appropriate by the inspector. Inspection aids such as mirror, magnifying lenses, etc., may be used. Surface cleaning and elaborate access procedures may be required.”

Corrective Action

(g) If the wear value found during any inspection required by paragraph (f) of this AD is not the same as that specified in part A, paragraph B.(8), of the Accomplishment Instructions of Bombardier Service Bulletin 601R-76-019, dated August 21, 2003; or Revision “A,” dated February 19, 2004: Do the applicable actions required by paragraph (g)(1), (g)(2), or (g)(3) of this AD, at the time specified, per the Accomplishment Instructions of the service bulletin. Repeat the inspection required by paragraph (f) of this AD thereafter at intervals not to exceed 1,000 flight hours.

(1) If the wear value on one or both of the gearboxes is the same as that specified in part A, paragraph B.(5), of the Accomplishment Instructions of the service bulletin: Before further flight, replace the affected gearbox with a new or serviceable gearbox, by doing all the actions per part B, paragraphs D. through F.(7), of the Accomplishment Instructions of the service bulletin.

(2) If the wear value on both the left and right gearboxes is the same as that specified in part A, paragraph B.(6), of the Accomplishment Instructions of the service bulletin: Before further flight, replace the gearbox having the higher wear value with a new or serviceable gearbox, by doing all the actions per part B, paragraphs D. through F.(7), of the Accomplishment Instructions of the service bulletin. Within 1,000 flight hours after doing the replacement, replace the other gearbox.

(3) If the wear value on only one gearbox is the same as that specified in part A, paragraph B.(7), and the wear value on the other gearbox is the same as that specified in part A, paragraph B.(8), of the Accomplishment Instructions of the service bulletin: Within 1,000 flight hours after the inspection, replace the gearbox with the wear value that is the same as that specified in part A, paragraph B.(7), with a new or serviceable gearbox. Do the replacement by doing all the actions per part B, paragraphs D. through F.(7), of the Accomplishment Instructions of the service bulletin.

Additional Service Information

Note 2: Bombardier Service Bulletin 601R-76-019, dated August 21, 2003; and Revision ‘A,’ dated February 19, 2004; reference Trans Digm, Inc., AeroControlex Group, Service Bulletin 2100140-007-76-04, dated July 22, 2003, as an additional source of service information for accomplishment of the inspections and replacement.

Reporting Requirement

(h) At the applicable time specified in paragraph (h)(1) or (h)(2) of this AD, submit a report of gearbox wear to Bombardier Aerospace, In-Service Engineering (Engine Group); fax (514) 855-7708. The report must include the airplane serial number, the number of flight hours on the airplane, and the number of flight hours on each gearbox (if different than the number of flight hours on the airplane). Under the provisions of the Paperwork Reduction Act of 1980 (44 U.S.C. 3501 et seq.), the Office of Management and Budget (OMB) has approved the information collection requirements contained in this AD and has assigned OMB Control Number 2120-0056.

(1) For Bombardier Model CL-600-2B19 (Regional Jet Series 100 & 440) airplanes, serial numbers 7003 through 7067 inclusive, and 7069 through 7999 inclusive: Submit a report within 10 days after doing the inspection required by paragraph (f) of this AD, or within 10 days after March 25, 2004, whichever is later.

(2) For Bombardier Model CL-600-2B19 (Regional Jet Series 100 & 440) airplanes, serial numbers 8000 and subsequent: Submit a report within 10 days after doing the inspection required by paragraph (f) of this AD, or within 10 days after the effective date of this AD, whichever is later.

Alternative Methods of Compliance

(i) The Manager, New York Aircraft Certification Office, FAA, has the authority to approve alternative methods of compliance (AMOCs) for this AD, if requested using the procedures found in 14 CFR 39.19.

Related Information

(j) Canadian airworthiness directive CF-2004-01, dated January 21, 2004, also addresses the subject of this AD.

Material Incorporated by Reference

(k) You must use Bombardier Service Bulletin 601R-76-019, dated August 21, 2003; or Bombardier Service Bulletin 601R-76-019, Revision ‘A,’ dated February 19, 2004; to perform the actions that are required by this AD, unless the AD specifies otherwise.

(1) The Director of the Federal Register previously approved the incorporation by reference of Bombardier Service Bulletin 601R-76-019, Revision “A,” dated February 19, 2004; on July 9, 2004, (69 FR 35239, June 24, 2004).

(2) The Director of the Federal Register previously approved the incorporation by reference of Bombardier Service Bulletin 601R-76-019, dated August 21, 2003; on March 25, 2004 (69 FR 11293, March 10, 2004).

(3) You can get copies of the service information from Bombardier, Inc., Canadair, Aerospace Group, P.O. Box 6087, Station Centre-ville, Montreal, Quebec H3C 3G9, Canada. You can review copies at the Docket Management Facility, U.S. Department of Transportation, 400 Seventh Street SW., room PL-401, Nassif Building, Washington, DC; or at the National Archives and Records Administration (NARA). For information on the availability of this material at NARA, call (202) 741-6030, or go to: http://www.archives.gov/federal_register/code_of_federal_regulations/ibr_locations.html.

Issued in Renton, Washington, on March 8, 2005.
Ali Bahrami,
Manager, Transport Airplane Directorate, Aircraft Certification Service.

[FR Doc. 05-5139 Filed 3-16-05; 8:45 am]

BILLING CODE 4190-13-P